DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Full Committee Meeting.

Time and Date

November 18, 2015 8:30 a.m.-5:40 p.m. EST

November 19, 2015 8:15 a.m.-12:30 p.m. EST

Place: Centers for Disease Control and Prevention, National Center for Health Statistics, 3311 Toledo Road, Auditorium A and B, Hyattsville, Maryland 20782. (301) 458-4524.

Status: Open.

Purpose

At this meeting the Committee will hear presentations and hold discussions on several health data policy topics. The Committee will hear updates from the Department, the Center for Medicare and Medicaid Services, and the Office of the National Coordinator focused on the Interoperability Roadmap. The Committee will review proceedings from the November 17, 2015, “Workshop on Advancing Community-Level Core Measurement: Proposing a Roadmap for HHS” held the day prior to the Committee meeting to determine next steps for the Population Health Subcommittee. In its designated role as the ACA Review Committee, the Standards Subcommittee will provide an update on preliminary findings and recommendations from the June 16-17, 2015 hearing on the status of adoption and implementation of HIPAA standards and operating rules. The Committee will review its strategic plan for 2016 and all Subcommittees will report on their workplans and next steps. In addition, the Committee will be briefed on and discuss the recent implementation of ICD-10. After the plenary session adjourns, the Working Group on HHS Data Access and Use will continue strategic discussions on building a framework for guiding principles for data access and use.

The times shown above are for the Full Committee meeting. Subcommittee issues will be included as part of the Full Committee schedule.

Contact Person for More Information: Substantive program information may be obtained from Rebecca Hines, Executive Secretary, NCVHS, National Center for Health Statistics, Centers for Disease Control and Prevention, 3311 Toledo Road, Room 6316, Hyattsville, Maryland 20782, telephone (301) 458-4715. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: October 28, 2015.
James Scanlon,
Deputy Assistant Secretary for Science and Data Policy, Office of the Assistant Secretary for Planning and Evaluation.

[FR Doc. 2015-28346 Filed 11-5-15; 8:45 am]

BILLING CODE 4151-05-P